DEPARTMENT OF DEFENSE

Department of the Army

Notice of Intended Disinterment From Carlisle Barracks Post Cemetery

AGENCY: Department of the Army, DoD.

ACTION: Notice of intended disinterment.

SUMMARY: The Office of Army Cemeteries (OAC) is honoring the requests of the family members and Tribes to disinter the human remains of nineteen Native American students from the Carlisle Barracks Post Cemetery, Carlisle, Pennsylvania. The decedent names are: Wallace Perryman from the Seminole Nation of Oklahoma; Belle Cahoe, Wash E. He, Tabitha Carroll, Jane Lumpfoot, Leah Road Traveler, Percy Whitebear, George Harrison, Charles Whiteshield, Matavito Horse, Nannie Little Robe, Dora Morning, Louise Thunder, Giles Hands, Ruben Tanpeds, Henry Morning, William Sammers, Abe Lincoln, and Elsie Davis from the Cheyenne and Arapaho Tribes. These students died between 1880 and 1910 while attending the Carlisle Indian Industrial School. See the SUPPLEMENTARY INFORMATION section for more details.

DATES: The Army intends to begin disinterment activities on September 3, 2025. Transportation to and Reinterment in private cemeteries will take place as soon as practical after the disinterment. If other living relatives object to the disinterment of these remains, please provide written objection to MAJ Oluwaseun Adedeji at the email addresses listed below prior to May 1st, 2025. Such objections may delay the disinterment for the decedent in question.

ADDRESSES: Public comments or objections may be mailed to MAJ Oluwaseun Adedeji, OAC Project Manager, 1 Memorial Avenue, Arlington, VA 22211 or emailed to usarmy.pentagon.hqda-anc-osa.mbx.carlisle-barracks-operations@army.mil (preferred).

FOR FURTHER INFORMATION CONTACT: MAJ Oluwaseun Adedeji, OAC Project Manager at (703) 614-0612 or the email address listed above.

SUPPLEMENTARY INFORMATION: OAC has received written requests for disinterment from the closest living descendent of each of the nineteen individuals. OAC will disinter and facilitate the transport and reinterment of the remains to private cemeteries chosen by the families and Tribes at government expense. This disinterment will be conducted under the authority of Army Regulation 290-5, in accordance with the Native American Graves Protection and Repatriation Act (NAGPRA) savings clauses at 25 U.S.C. 3009. Additional information related to Native Americans buried at the Carlisle Barracks Post Cemetery can be found at https://armycemeteries.army.mil/Cemeteries/Carlisle-Barracks-Main-Post-Cemetery.

James W. Satterwhite Jr.,
Army Federal Register Liaison Officer.

[FR Doc. 2025-03357 Filed 2-28-25; 8:45 am]

BILLING CODE 3711-CC-P